DEPARTMENT OF ENERGY

Albany Research Center; Notice of Intent To Grant Exclusive or Partially Exclusive Patent License

AGENCY: Department of Energy (DOE), Albany Research Center (ALRC).

ACTION: Notice.

SUMMARY: Notice is hereby given of an intent to grant to Harbison-Walker Refractories Co. at Moon Township, Pennsylvania, an exclusive or partially exclusive license to practice the invention described in the U.S. patent number 6,815,386 titled, “Use of Phosphates to Reduce Slag Penetration in Cr2O3-Based Refractories.” The invention is owned by the United States of America, as represented by the Department of Energy (DOE). The proposed license will be exclusive or partially exclusive, subject to a license and other rights retained by the U.S. Government, and other terms and conditions to be negotiated. DOE intends to grant the license, upon a final determination in accordance with 35 U.S.C. 209(c), unless within 15 days of publication of this Notice the Research Marketing Specialist, Department of Energy, Albany Research Center, 1450 Queen Avenue, SW., Albany, OR 97321-2198, receives in writing any of the following, together with the supporting documents:

(i) A statement from any person setting forth reasons why it would not be in the best interest of the United States to grant the proposed license; or

(ii) An application for a nonexclusive license to the invention, in which applicant states that it already has brought the invention to practical application or is likely to bring the invention to practical application expeditiously.

DATES: Written comments or nonexclusive license applications are to be received at the address listed below no later than fifteen (15) days after the date of this published Notice.

ADDRESSES: Paula Turner, Research Marketing Specialist, U.S. Department of Energy, Albany Research Center, 1450 Queen Avenue SW., Albany, OR 97321-2198.

FOR FURTHER INFORMATION: Paula Turner, Research Marketing Specialist, U.S. Department of Energy, Albany Research Center, 1450 Queen Avenue SW., Albany, OR 97321-2198; Telephone (541) 967-5966; E-mail: @turnerp@alrc.doe.gov.

SUPPLEMENTARY INFORMATION: 35 U.S.C. 209(c) provides the DOE with authority to grant exclusive or partially exclusive licenses in Department-owned inventions, where a determination can be made, among other things, that the desired practical application of the invention has not been achieved, or is not likely expeditiously to be achieved, under a nonexclusive license. The statute and implementing regulations (37 CFR part 404) require that the necessary determinations be made after public notice and opportunity for filing written objections.

Harbison-Walker Refractories, a business located at Moon Township, Pennsylvania, has applied for an exclusive or partially exclusive license to practice the invention and has a plan for commercialization of the invention.

The proposed license will be exclusive or partially exclusive, subject to a license and other rights retained by the U.S. Government, and subject to a negotiated royalty. The Department will review all timely written responses to this notice, and will grant the license if, after expiration of the 15-day notice period, and after consideration of written responses to this notice, a determination is made, in accordance with 35 U.S.C. 209(c), that the license grant is in the public interest.

Dated: October 18, 2005.
George J. Dooley,
Research Director, Albany Research Center.

[FR Doc. 05-22232 Filed 11-7-05; 8:45 am]

BILLING CODE 6450-01-P